DEPARTMENT OF COMMERCE

National Oceanic and Atmospheric Administration

[I.D. 121905A]

Endangered and Threatened Species; Recovery Plans; Reopening of Public Comment Period

AGENCY: National Marine Fisheries Service (NMFS), National Oceanic and Atmospheric Administration (NOAA), Commerce.

ACTION: Notice; reopening of public comment period.

SUMMARY: NMFS is reopening the public comment period for the proposed Puget Sound Salmon Recovery Plan (Plan) for the Evolutionarily Significant Unit (ESU) of Puget Sound Chinook Salmon (Oncorhynchus tshawytscha) until March 16, 2006. The proposed Recovery Plan consists of a “Draft Puget Sound Recovery Plan” prepared by the Shared Strategy and a NMFS Supplement. NMFS is reopening the public comment period at the request of commenters to provide additional opportunity for public review and comment.

DATES: Written comments must be received by March 16, 2006.

ADDRESSES: Comments on the proposed Plan may be submitted by any of the following methods. Send written comments and materials to Elizabeth Babcock, National Marine Fisheries Service, Salmon Recovery Division, 7600 Sandpoint Way NE Seattle, WA 98115. Comments may be submitted by e-mail to PugetSalmonPlan.nwr@noaa.gov; include in the subject line of the e-mail comment the following identifier: Comments on Puget Sound Salmon Plan. Comments may also be submitted via facsimile (fax) to 206 526 6426.

Persons wishing to review the Plan can obtain an electronic copy (i.e., CDROM) from Carol Joyce by calling 503- 230-5408, or by e-mailing a request to carol.joyce@noaa.gov, with the subject line “CD-ROM Request for Puget Sound Salmon Plan”. Electronic copies of the Shared Strategy Plan are also available on-line on the Shared Strategy Web site http://www.sharedsalmonstrategy.org.

FOR FURTHER INFORMATION CONTACT: Elizabeth Babcock, NMFS Puget Sound Salmon Recovery Coordinator (206-526-4505), or Elizabeth Gaar, NMFS Salmon Recovery Division (503-230-5434).

SUPPLEMENTARY INFORMATION:

Background

Recovery plans describe actions considered necessary for the conservation and recovery of species listed under the Endangered Species Act of 1973 (ESA), as amended (16 U.S.C. 1531 et seq.). The ESA requires that recovery plans incorporate (1) objective, measurable criteria which, when met, would result in a determination that the species is no longer threatened or endangered; (2) site-specific management actions necessary to achieve the plan's goals; and (3) estimates of the time required and costs to implement recovery actions. The ESA requires the development of recovery plans for listed species unless such a plan would not promote the recovery of a particular species.

NMFS' goal is to restore endangered and threatened Pacific salmon ESUs to the point where they are again secure, self-sustaining members of their ecosystems and no longer need the protections of the ESA. NMFS believes it is critically important to base its recovery plans on the many state, regional, tribal, local, and private conservation efforts already underway throughout the region. The agency's approach to recovery planning has been to support and participate in locally led collaborative efforts involving local communities, state, tribal, and Federal entities, and other stakeholders to develop recovery plans.

On June 30, 2005, the Governor of Washington presented NMFS a locally developed recovery plan for Puget Sound Chinook salmon prepared by the Shared Strategy, a coalition of natural resource agencies, local governments, tribes, businesses, environmental groups, and other stakeholders. After review of the Shared Strategy's “Draft Puget Sound Salmon Recovery Plan”, NMFS added a Supplement, which describes how the local plan satisfies ESA requirements, including additional actions that NMFS believes are necessary to support recovery. The Shared Strategy plan and the NMFS-prepared Supplement form a proposed Recovery Plan that meets the requirements of the ESA. The proposed Recovery Plan covers the range of the Puget Sound Chinook Salmon ESU (Oncorhynchus tshawytscha), listed as threatened on March 24, 1999 (64 FR 14307). The area covered by the proposed Recovery Plan is the 16,000-square-mile (41,440 square km) Puget Sound Basin, the second largest estuary in the United States. It encompasses twenty major river systems originating in the Cascade mountain range to the east and the Olympic mountain range to the west. The recovery planning area ends at the Canadian border, but includes the San Juan Islands.

NMFS published notice of the availability of the proposed Recovery Plan for public comment in the Federal Register on December 27, 2005 (70 FR 76445), with a comment period closing on February 27, 2005. At the request of several commenters, NMFS is reopening the comment period, which will now extend until March 16, 2006 to allow additional opportunity for public comment. The documents are available on the NMFS Northwest Region Salmon Web site at http://www.nwr.noaa.gov/Salmon-Recovery-Planning/index.cfm.

Authority: 16 U.S.C. 1531 et seq.

Dated: February 24, 2006.
James H. Lecky,
Director, Office of Protected Resources, National Marine Fisheries Service.

[FR Doc. E6-2991 Filed 3-1-06; 8:45 am]

BILLING CODE 3510-22-S